DEPARTMENT OF ENERGY

Federal Energy Regulatory Commission

Notice of Scoping Meetings and Soliciting Scoping Comments

August 6, 2001.

Take notice the following hydroelectric application has been filed with the Commission and is available for public inspection:

a. Type of Application: New Major License.

b. Project No.: P-2835-005.

c. Date Filed: October 27, 2000.

d. Applicant: New York State Electric & Gas Corporation (NYSEG).

e. Name of Project: Rainbow Falls Hydroelectric Project.

f. Location: On the Ausable River, near the Rainbow Falls in the townships of Ausable and Chesterfield in Clinton and Essex counties, New York. The project would not utilize federal lands.

g. Filed Pursuant to: Federal Power Act, 16 U.S.C. 791(a)-825(r).

h. Applicant Contacts: Carol Howland, NYSEG, Corporate Drive—Kirkwood Industrial Park, P. O. Box 5224, Binghamton, NY 13902-5224; (607) 762-8881.

i. FERC Contact: Jarrad Kosa (202) 219-2831, or via e-mail at jarrad.kosa@ ferc.fed.us.

j. Deadline for Filing Scoping Comments: December 2, 2001.

All documents (original and eight copies) should be filed with: David P. Boergers, Secretary; Federal Energy Regulatory Commission; 888 First Street, NE., Washington, DC 20426. Comments, protests, and interventions may be filed electronically via the Internet in lieu of paper. See 18 CFR 385.2001(a)(1)(iii) and the instructions on the Commission's web site under the “e-Filing” link.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Status of Environmental Analysis: This application is not ready for environmental analysis at this time.

l. Description of the Project: The existing run-of-river Rainbow Falls Hydroelectric Project consists of the following facilities: (1) A 19-acre reservoir having a gross storage capacity of 234 acre-feet at 310 above mean sea level (msl); (2) a 19-foot-high by 435-foot-long concrete gravity dam having (i) 3-foot-high flashboards and (ii) a concrete 345-foot-long spillway between the dam abutments with an average height of 16 feet and an average width of 21 feet; (3) a 77-foot-long by 22-foot to 49-foot-wide forebay intake structure, and (4) a 20-foot-long by 16-foot-wide sluiceway section containing a gate well located at the west end of the spillway section; (5) a 260-foot-long by 25.5-foot-deep concrete power canal leading to (6) a stone rack house containing trash racks and rakes; (7) two 6-foot-in-diameter steel riveted penstocks extending 401 feet and 411 feet, respectively, from the rack house to (8) a 67-foot-long by 40-foot-wide reinforced concrete powerhouse, housing two 1,320-kW generating units for a total installed capacity of 2,640-kW; (9) a 200-foot-long, 2.3-kV transmission line; and (10) appurtenant facilities. The project has an annual average generation of 13,991,000 kWh. The purpose of the project is to produce electric power generation for distribution on the licensee's transmission and distribution facilities.

m. Locations of the Application: A copy of the application is available for inspection and reproduction at the Commission's Public Reference Room, located at 888 First Street, NE., Room 2A, Washington, DC 20246, or by calling (202) 208-1371. The application may be viewed on the web at http://www.ferc.gov using the “RIMS” link, select “Dockets” and follow the instructions (call 202-208-2222 for assistance).

n. Scoping Process. The Commission intends to prepare an Environmental Assessment (EA) on the project in accordance with the National Environmental Policy Act. The EA will consider both site-specific and cumulative environmental impacts and reasonable alternatives to the proposed action.

Scoping Meetings

The Commission will hold two scoping meetings, one in the evening and one during the day, to help us identify the scope of issues to be addressed in the EA.

The evening scoping meeting is primarily for public input and the daytime scoping meeting will focus on resource agency concerns. All interested individuals, organizations, and agencies are invited to attend one or both of the meetings, and to assist the staff in identifying the scope of the environmental issues that should be analyzed in the EA. The times and locations of these meetings are as follows:

Evening Scoping Meeting

Date: November 1, 2001

Time: 7 to 9 p.m.

Place: Best Western, Plattsburgh, NY

Daytime Scoping Meeting

Date: November 2, 2001

Time: 10 a.m. to 12 p.m.

Place: Best Western, Western, Plattsburgh, NY

Individuals needing directions to the scoping meetings should contact Ms. Carol Howland, NYSEG, at 607-762-8881.

To help focus discussions, we will distribute a Scoping Document (SD1) outlining the subject areas to be addressed in the EA to the parties on the Commission's mailing list. Copies of the SD1 also will be available at the scoping meeting.

Site Visit

The licensee and FERC staff will conduct a project site visit beginning at 1 p.m. on November 2, 2001. All interested individuals, organizations, and agencies are invited to attend. All participants should meet at the Rainbow Falls Hydropower Project parking lot on Mace Chasm Road, also known as Old State Road, in Ausable Chasm, NY. All participants are responsible for their own transportation to the site. Anyone with questions about the site visit should contact Ms. Carol Howland, NYSEG, at 607-762-8881.

Objectives

At the scoping meetings, staff will: (1) Summarize the environmental issues tentatively identified for analysis in the EA; (2) solicit from the meeting participants all available information, especially quantitative data, on the resources at issue; (3) encourage statements from experts and the public on issues that should be analyzed in the EA, including view points in opposition to, or in support of, the staff's preliminary views; (4) determine the resource issues to be addressed in the EA; and (5) identify those issues that require a detailed analysis, as well as those issues that do not require a detailed analysis.

Procedures

The meetings will be recorded by a stenographer and will become part of the formal record of the Commission proceeding on the project. Individuals presenting statements at the meetings will be asked to sign in before the meeting starts and to clearly identify themselves for the record.

Individuals, organizations, and agencies with environmental expertise and concerns are encouraged to attend the meetings and to assist staff in defining and clarifying the issues to be addressed in the EA.

David P. Boergers,
Secretary.

[FR Doc. 01-20064 Filed 8-9-01; 8:45 am]

BILLING CODE 6717-01-P